DEPARTMENT OF TRANSPORTATION

Federal Aviation Administration

14 CFR Part 39

[Docket No. FAA-2005-22103; Directorate Identifier 2005-CE-42-AD; Amendment 39-14766; AD 2006-19-09]

RIN 2120-AA64

Airworthiness Directives; Raytheon Aircraft Company Model B300 Airplanes

AGENCY: Federal Aviation Administration (FAA), Department of Transportation (DOT).

ACTION: Final rule.

SUMMARY: We are adopting a new airworthiness directive (AD) for certain Raytheon Aircraft Company (RAC) Model B300 airplanes. This AD requires you to modify the cabin passenger seats by installing a modification kit on each passenger seat, removing the existing technical standard order (TSO) label, and re-identifying each modified passenger seat assembly with a new part number. This AD results from the seats not meeting the ultimate load requirements of 14 CFR part 23 during structural testing of the seat with design changes. We are issuing this AD to prevent the passenger seats from failing during emergency landing conditions when high inertial loadings occur. Passenger seat failure may result in occupant injury.

DATES: This AD becomes effective on October 24, 2006.

As of October 24, 2006, the Director of the Federal Register approved the incorporation by reference of certain publications listed in the regulation.

ADDRESSES: For service information identified in this AD, contact Raytheon Aircraft Company, P.O. Box 85, Wichita, Kansas 67201; telephone: (800) 625-7043.

To view the AD docket, go to the Docket Management Facility; U.S. Department of Transportation, 400 Seventh Street, SW., Nassif Building, Room PL-401, Washington, DC 20590-0001 or on the Internet at http://dms.dot.gov. The docket number is FAA-2005-22103; Directorate Identifier 2005-CE-42-AD.

FOR FURTHER INFORMATION CONTACT: Steven E. Potter, Aerospace Engineer, Wichita Aircraft Certification Office, Airframe and Services Branch, ACE-118W, 1801 Airport Road, Wichita, Kansas 67209; telephone: (316) 946-4124; facsimile: (316) 946-4107.

SUPPLEMENTARY INFORMATION:

Discussion

On May 15, 2006, we issued a proposal to amend part 39 of the Federal Aviation Regulations (14 CFR part 39) to include an AD that would apply to certain RAC Model B300 airplanes. This proposal was published in the Federal Register as a notice of proposed rulemaking (NPRM) on May 19, 2006 (71 FR 29090). The NPRM proposed to require you to modify the cabin passenger seats by installing a modification kit on each passenger seat, removing the existing TSO label, and re-identifying each modified passenger seat assembly with a new part number.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 292 airplanes in the U.S. registry.

We estimate the following costs to do the modification:

Labor cost | Parts cost (per seat) | Total cost per airplane (per seat) | Total cost on U.S. operators
3 work-hours (per seat) × $80 per hour = $240 | $1,500 | $1,740 | $2,387,280. The number of passenger seats per airplane may vary. We estimate a total of 1,372 seats in the entire fleet.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-22103; Directorate Identifier 2005-CE-42-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2006-19-09 Raytheon Aircraft Company: Amendment 39-14766; Docket No. FAA-2005-22103; Directorate Identifier 2005-CE-42-AD.

Effective Date

(a) This AD becomes effective on October 24, 2006.

Affected ADs

(b) None.

Applicability

(c) This AD affects Model B300 airplanes, serial numbers FL-1 through FL-289, that are certificated in any category.

Unsafe Condition

(d) This AD is the result of the cabin passenger seats not meeting the design load requirements of 14 CFR part 23 during structural load testing for design changes. The actions specified in this AD are intended to prevent the passenger seats from failing during emergency landing conditions when high inertial loadings occur. Passenger seat failure could result in occupant injury.

Compliance

(e) To address this problem, you must do the following, unless already done:

Actions | Compliance | Procedures
(1) Install a modification kit for each cabin passenger seat as follows: (i) Install part number (P/N) 130-5108-0001 for left forward facing seats or right aft facing seats; and (ii) Install P/N 130-5108-0002 for right forward facing seats or left aft facing seats | Within 24 calendar months or 600 hours time-in-service, whichever occurs first after October 24, 2006 (the effective date of this AD) | Follow Raytheon Aircraft Company Service Bulletin SB 25-3640, Rev. 1; Issued: May 2005, Revised: January 2006.
(2) Remove the TSO label on each cabin seat and re-identify each modified cabin seat assembly with the new P/N | Before further flight after doing the modification required in paragraph (e)(1) of this AD | Follow Raytheon Aircraft Company Service Bulletin SB 25-3640, Rev. 1; Issued: May 2005, Revised: January 2006.

Alternative Methods of Compliance (AMOCs)

(f) The Manager, Wichita Aircraft Certification Office (ACO), FAA, ATTN: Steven E. Potter, Aerospace Engineer, Wichita ACO, Airframe and Services Branch, ACE-118W, 1801 Airport Road, Wichita, Kansas 67209; telephone: (316) 946-4124; facsimile: (316) 946-4107, has the authority to approve AMOCs for this AD, if requested using the procedures found in 14 CFR 39.19.

Related Information

(g) None.

Material Incorporated by Reference

(h) You must do the actions required by this AD following the instructions in Raytheon Aircraft Company Service Bulletin SB 25-3640, Rev. 1; Issued: May 2005, Revised: January 2006. The Director of the Federal Register approved the incorporation by reference of this service bulletin in accordance with 5 U.S.C. 552(a) and 1 CFR part 51. To get a copy of this service information, contact Raytheon Aircraft Company, P.O. Box 85, Wichita, Kansas 67201; telephone: (800) 625-7043. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-22103; Directorate Identifier 2005-CE-42-AD.

Issued in Kansas City, Missouri, on September 11, 2006.
David R. Showers,
Acting Manager, Small Airplane Directorate, Aircraft Certification Service.

[FR Doc. E6-15422 Filed 9-18-06; 8:45 am]

BILLING CODE 4910-13-P